DEPARTMENT OF TRANSPORTATION

Federal Aviation Administration

14 CFR Part 39

[Docket No. FAA-2009-0450; Directorate Identifier 2008-NM-182-AD; Amendment 39-15908; AD 2009-10-12]

RIN 2120-AA64

Airworthiness Directives; Boeing Model 747 Airplanes

AGENCY: Federal Aviation Administration (FAA), Department of Transportation (DOT).

ACTION: Final rule; request for comments.

SUMMARY: The FAA is superseding an existing airworthiness directive (AD) that applies to certain Boeing Model 747 airplanes. The existing AD currently requires modifying the inflation systems of the upper deck escape slides; single-piece off-wing escape ramps/slides; two-piece off-wing escape slides; and door 1, 2, 4, and 5 escape slides/rafts; as applicable. This AD expands the applicability to include an additional airplane. This AD results from a report of 30- to 60-second delays in the inflation of escape slides/rafts. We are issuing this AD to prevent actuation delays in the inflation systems of the escape slides/rafts, which could result in delayed or failed deployment of escape slides/rafts during emergency evacuation of an airplane.

DATES: This AD becomes effective June 4, 2009.

The Director of the Federal Register approved the incorporation by reference of a certain publication listed in the AD as of June 4, 2009.

On September 13, 2005 (70 FR 46067, August 9, 2005), the Director of the Federal Register approved the incorporation by reference of Boeing Service Bulletin 747-25-3279, Revision 1, dated July 11, 2002; and Boeing Service Bulletin 747-25-3232, dated July 6, 2000.

We must receive any comments on this AD by July 20, 2009.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For Boeing service information identified in this AD, contact Boeing Commercial Airplanes, P.O. Box 3707, Seattle, Washington 98124-2207; telephone 206-544-9990; fax 206-766-5682; e-mail DDCS@boeing.com; Internet https://www.myboeingfleet.com. For Goodrich service information identified in this AD, contact Goodrich Corporation, Aircraft Interior Products, ATTN: Technical Publications, 3414 South Fifth Street, Phoenix, Arizona 85040; telephone 602-243-2270; e-mail george.yribarren@goodrich.com; Internet http://www.goodrich.com/TechPubs.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Andrew Guion, Aerospace Engineer, Cabin Safety and Environmental Systems Branch, ANM-150S, FAA, Seattle Aircraft Certification Office, 1601 Lind Avenue, SW., Renton, Washington 98057-3356; telephone (425) 917-6428; fax (425) 917-6590.

SUPPLEMENTARY INFORMATION:

Discussion

On July 29, 2005, we issued AD 2005-16-06, amendment 39-14211 (70 FR 46067, August 9, 2005). That AD applies to certain Boeing Model 747 airplanes. That AD requires modifying the inflation systems of the upper deck escape slides; single-piece off-wing escape ramps/slides; two-piece off-wing escape slides; and door 1, 2, 4, and 5 escape slides/rafts as applicable. That AD resulted from a report of 30- to 60-second delays in the inflation of escape slides/rafts. The actions specified in that AD are intended to prevent actuation delays in the inflation systems of the escape slides/rafts, which could result in delayed or failed deployment of escape slides/rafts during emergency evacuation of an airplane.

Actions Since AD Was Issued

Since we issued that AD, we have been advised that one additional airplane may be subject to the identified unsafe condition.

Relevant Service Information

AD 2005-16-06 referred to Boeing Service Bulletin 747-25-3279, Revision 1, dated July 11, 2002, as the appropriate source of service information for the modification required by paragraph (f) of that AD. Since we issued that AD, Boeing has revised that service bulletin. Revision 4, dated December 11, 2008, provides the same procedures as those specified in Revision 1, but adds airplane RG162 to the effectivity.

FAA's Determination and Requirements of this AD

We are issuing this AD because the unsafe condition described previously is likely to exist or develop on other products of the(se) same type design(s) that could be registered in the United States in the future. This AD retains the requirements of the AD 2005-16-06. This AD supersedes AD 2005-16-06 to add one airplane.

Since the added airplane is not on the U.S. Register, notice and opportunity for public comment before issuing this AD are unnecessary.

Differences Between the AD and Service Information

Although Boeing Service Bulletin 747-25-3279, Revision 1, dated July 11, 2002; Boeing Service Bulletin 747-25-3279, Revision 4, dated December 11, 2008; and Boeing Service Bulletin 747-25-3232, dated July 6, 2000; recommend accomplishing the modification at “the next scheduled evacuation system overhaul,” we have determined that this imprecise compliance time does not address the identified unsafe condition in a timely manner. In developing an appropriate compliance time for this AD, we considered not only the manufacturer's recommendation, but also the degree of urgency associated with addressing the subject unsafe condition, the average utilization of the affected fleet, and the time necessary to perform the modifications. In light of all of these factors, we find a compliance time of 36 months for completing the actions to be warranted, in that it represents an appropriate interval of time for affected airplanes to continue to operate without compromising safety. This compliance time has been coordinated with the manufacturer.

Change to Existing AD

This AD retains all requirements of AD 2005-16-06. Since AD 2005-16-06 was issued, the AD format has been revised, and certain paragraphs have been rearranged. As a result, the corresponding paragraph identifiers have changed in this AD, as listed in the following table:

Revised Paragraph Identifiers
Requirement in AD 2005-16-06 | Corresponding requirement in this AD
paragraph (e) | paragraph (f).
paragraph (f) | paragraph (g).
paragraph (g) | paragraph (h).
paragraph (h) | paragraph (i).
paragraph (i) | paragraph (j).

Costs of Compliance

The newly added airplane is not on the U.S. Register; therefore, it is not directly affected by this AD action. However, we consider this AD necessary to ensure that the unsafe condition is addressed if that affected airplane is imported and placed on the U.S. Register in the future. For that airplane, the costs to comply with this AD would be the same as the costs provided in the existing AD which are restated below, with a revised average labor rate of $80 per work hour.

Estimated Costs of AD 2005-16-06
Model | Work hours | Parts costs | Cost per airplane | Number of U.S.-registered airplanes | Fleet cost
747-100, -100B, -100B SUD, -200B, and -200C series airplanes, identified as Group 1 in Boeing Service Bulletin 747-25-3279 | 12 | $34,832 (2 each: doors 1, 2, 4, 5, upper deck, and two-piece off-wing) | $35,792 | 53 | $1,896,976
747-200B and -300 series airplanes, identified as Group 2 in Boeing Service Bulletin 747-25-3279 | 8 | $26,368 (2 each: doors 1, 2, 4, and 5) | 27,008 | 4 | 108,032
747-200B series airplanes, identified as Group 3 in Boeing Service Bulletin 747-25-3279 | 10 | $30,600 (2 each: doors 1, 2, 4, 5, and two-piece off-wing) | 31,400 | 1 | 31,400
747-100, -100B, -100B SUD, -200B, 747SP, and 747SR series airplanes, identified as Group 4 in Boeing Service Bulletin 747-25-3279 | 10 | $30,600 (2 each: doors 1, 2, 4, and 5, and upper deck) | 31,400 | 17 | 533,800
747-200F and -400F series airplanes, identified as Group 5 in Boeing Service Bulletin 747-25-3279 | 2 | $4,232 (2 upper deck doors) | 4,392 | 32 | 140,544
747-200B series airplanes, identified as Group 6 in Boeing Service Bulletin 747-25-3279 | 2 | $4,232 (2 two-piece off-wing doors) | 4,392 | 0 | 0
747-400 and -400D series airplanes, identified in Boeing Service Bulletin 747-25-3232 | 2 | $8,250 (2 single-piece off-wing doors) | 8,410 | 59 | 496,190
747-200B series airplanes, identified as Group 4 in Boeing Service Bulletin 747-25-3279 and also identified in Boeing Service Bulletin 747-25-3232 | 10 | $30,600 (2 each: doors 1, 2, 4, 5, upper deck, and single-piece off-wing) | 31,400 | 3 | 94,200

Comments Invited

This AD is a final rule that involves requirements affecting flight safety, and we did not provide you with notice and an opportunity to provide your comments before it becomes effective. However, we invite you to send any written data, views, or arguments about this AD. Send your comments to an address listed under the ADDRESSES section. Include “Docket No. FAA-2009-0450; Directorate Identifier 2008-NM-182-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in subtitle VII, part A, subpart III, section 44701, “General Requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14211 (70 FR 46067, August 9, 2005) and adding the following new AD:

2009-10-12 Boeing: Docket No. FAA-2009-0450; Directorate Identifier 2008-NM-182-AD; Amendment 39-15908.

Effective Date

(a) This AD becomes effective June 4, 2009.

Affected ADs

(b) This AD supersedes AD 2005-16-06.

Applicability

(c) This AD applies to the airplanes listed in Table 1 of this AD, certificated in any category.

Table 1—Applicability
Boeing— | As identified in—
Model 747-100, -100B, -100B SUD, -200B, -200C, -200F, -300, -400F, 747SP, and 747SR series airplanes | Boeing Service Bulletin 747-25-3279, Revision 4, dated December 11, 2008.
Model 747-200B, -200C, -300, -400, and -400D series airplanes | Boeing Service Bulletin 747-25-3232, dated July 6, 2000.

Subject

(d) Air Transport Association (ATA) of America Code 25: Equipment/Furnishings.

Unsafe Condition

(e) This AD results from a report of 30- to 60-second delays in the inflation of escape slides/rafts. We are issuing this AD to prevent actuation delays in the inflation systems of the escape slides/rafts, which could result in delayed or failed deployment of escape slides/rafts during emergency evacuation of an airplane.

Compliance

(f) You are responsible for having the actions required by this AD performed within the compliance times specified, unless the actions have already been done.

Restatement of Requirements of AD 2005-16-06

Modification for Upper Deck, Two-Piece Off-Wing, and Door 1, 2, 4, and 5 Slides and Slide/Rafts

(g) For Model 747-100, -100B, -100B SUD, -200B, -200C, -200F, -300, -400F, 747SP, and 747SR series airplanes identified in Boeing Service Bulletin 747-25-3279, Revision 1, dated July 11, 2002: Within 36 months after September 13, 2005 (the effective date of AD 2005-16-06), do the actions specified in paragraphs (g)(1) and (g)(2) of this AD, as applicable, in accordance with Boeing Service Bulletin 747-25-3279, Revision 1, dated July 11, 2002; or Revision 4, dated December 11, 2008. After the effective date of this AD, only Revision 4 of Boeing Service Bulletin 747-25-3279 can be used to accomplish the requirements of this paragraph.

(1) Modify the inflation systems of the upper deck and two-piece off-wing escape slides.

(2) Modify the inflation systems of the door 1, 2, 4, and 5 escape slides/rafts, as applicable.

Note 1: Boeing Service Bulletins 747-25-3279, Revision 1, dated July 11, 2002, and 747-25-3279, Revision 4, dated December 11, 2008; refer to Goodrich Service Bulletin 4A3037-25-327, dated November 30, 2001; Goodrich Service Bulletin 4A3056-25-331, dated December 21, 2001; and Goodrich Service Bulletin 4A3221-25-332, dated December 21, 2001; as additional sources of service information for doing the modifications.

Modification for Single-Piece Off-Wing Ramp/Slides

(h) For Model 747-200B, -200C, -300, -400, and -400D series airplanes identified in Boeing Service Bulletin 747-25-3232, dated July 6, 2000: Within 36 months after September 13, 2005, modify the inflation system of the single-piece off-wing escape ramps/slides, in accordance with Boeing Service Bulletin 747-25-3232, dated July 6, 2000.

Note 2: Boeing Service Bulletin 747-25-3232, dated July 6, 2000, refers to Goodrich Service Bulletin 4A3416-25-305, Revision 2, dated October 15, 2001, as an additional source of service information for doing the modification.

Parts Installation

(i) For airplanes identified in paragraph (g) or (h) of this AD: As of September 13, 2005, unless the regulator assembly of the inflation system has been modified in accordance with paragraph (g) or (h) of this AD, as applicable, no person may install on any airplane a regulator assembly with any of the following part numbers (P/Ns): P/N 4A3047, -2, -3, -4, -5, -8, -9, or -10; P/N 4A3194-1, -2, -3, or -4; or P/N 4A3474-3.

Credit for Previous Service Bulletin

(j) Actions done before September 13, 2005, in accordance with Boeing Service Bulletin 747-25-3279, dated May 16, 2002, are acceptable for compliance with the corresponding requirements of paragraph (g) of this AD.

New Requirements of This AD

Modification for Upper Deck, Two-Piece Off-Wing, and Door 1, 2, 4, and 5 Slides and Slide/Rafts

(k) For Model 747SP airplane with the variable number RG162: Within 36 months after the effective date of this AD, do the actions specified in paragraphs (k)(1) and (k)(2) of this AD, in accordance with Boeing Service Bulletin 747-25-3279, Revision 4, dated December 11, 2008.

(1) Modify the inflation systems of the upper deck and two-piece off-wing escape slides.

(2) Modify the inflation systems of the door 1, 2, 4, and 5 escape slides/rafts.

Actions Accomplished According to Previous Issue of Service Bulletin

(l) Actions accomplished before the effective date of this AD according to Boeing Service Bulletin 747-25-3279, Revision 2, dated July 26, 2006; or Revision 3, dated January 18, 2007; are considered acceptable for compliance with the corresponding actions specified in paragraph (g) of this AD.

(m) Actions accomplished before the effective date of this AD according to Boeing Service Bulletin 747-25-3279, dated May 16, 2002; Revision 1, dated July 11, 2002; Revision 2, dated July 26, 2006; or Revision 3, dated January 18, 2007; are considered acceptable for compliance with the corresponding actions specified in paragraph (k) of this AD.

Parts Installation for RG162

(n) For Model 747SP airplane with the variable number RG162: As of the effective date of this AD, unless the regulator assembly of the inflation system has been modified in accordance with paragraph (k) of this AD, no person may install on that airplane a regulator assembly with any of the following part numbers (P/Ns): P/N 4A3047, -2, -3, -4, -5, -8, -9, or -10; P/N 4A3194-1, -2, -3, or -4; or P/N 4A3474-3.

Alternative Methods of Compliance (AMOCs)

(o)(1) The Manager, Seattle Aircraft Certification Office (ACO), FAA, has the authority to approve AMOCs for this AD, if requested using the procedures found in 14 CFR 39.19. Send information to ATTN: Andrew Guion, Aerospace Engineer, Cabin Safety and Environmental Systems Branch, ANM-150S, FAA, Seattle Aircraft Certification Office, 1601 Lind Avenue, SW., Renton, Washington 98057-3356; telephone (425) 917-6428; fax (425) 917-6590.

(2) To request a different method of compliance or a different compliance time for this AD, follow the procedures in 14 CFR 39.19. Before using any approved AMOC on any airplane to which the AMOC applies, notify your principal maintenance inspector (PMI) or principal avionics inspector (PAI), as appropriate, or lacking a principal inspector, your local Flight Standards District Office. The AMOC approval letter must specifically reference this AD.

(3) AMOCs approved previously in accordance with AD 2005-16-06 are approved as AMOCs for the corresponding provisions of this AD.

Material Incorporated by Reference

(p) You must use the service information contained in Table 2 of this AD, as applicable, to do the actions required by this AD, unless the AD specifies otherwise.

Table 2—All Material Incorporated by Reference
Boeing Service Bulletin— | Revision— | Dated—
747-25-3232 | Original | July 6, 2000.
747-25-3279 | 1 | July 11, 2002.
747-25-3279 | 4 | December 11, 2008.

(1) The Director of the Federal Register approved the incorporation by reference of the service information contained in Table 3 of this AD under 5 U.S.C. 552(a) and 1 CFR part 51.

Table 3—New Material Incorporated by Reference
Boeing Service Bulletin— | Revision— | Dated—
747-25-3279 | 4 | December 11, 2008.

(2) The Director of the Federal Register previously approved the incorporation by reference of the service information contained in Table 4 of this AD on September 13, 2005 (70 FR 46067, August 9, 2005).

Table 4—Material Previously Incorporated by Reference
Boeing Service Bulletin— | Revision— | Dated—
747-25-3232 | Original | July 6, 2000.
747-25-3279 | 1 | July 11, 2002.

(3) For Boeing service information identified in this AD, contact Boeing Commercial Airplanes, Attention: Data & Services Management, P.O. Box 3707, MC 2H-65, Seattle, Washington 98124-2207; telephone 206-544-5000, extension 1; fax 206-766-5680; e-mail me.boecom@boeing.com; Internet https://www.myboeingfleet.com. For Goodrich service information identified in this AD, contact Goodrich Corporation, Aircraft Interior Products, ATTN: Technical Publications, 3414 South Fifth Street, Phoenix, Arizona 85040; telephone 602-243-2270; e-mail george.yribarren@goodrich.com; Internet http://www.goodrich.com/TechPubs.

(4) You may review copies of the service information at the FAA, Transport Airplane Directorate, 1601 Lind Avenue, SW., Renton, Washington. For information on the availability of this material at the FAA, call 425-227-1221 or 425-227-1152.

(5) You may also review copies of the service information that is incorporated by reference at the National Archives and Records Administration (NARA). For information on the availability of this material at NARA, call 202-741-6030, or go to: http://www.archives.gov/federal_register/code_of_federal_regulations/ibr_locations.html.

Issued in Renton, Washington, on May 6, 2009.
Ali Bahrami,
Manager, Transport Airplane Directorate, Aircraft Certification Service.

[FR Doc. E9-11284 Filed 5-19-09; 8:45 am]

BILLING CODE 4910-13-P